DEPARTMENT OF TRANSPORTATION

Pipeline and Hazardous Materials Safety Administration

49 CFR Parts 192 and 195

[Docket ID PHMSA-2007-27954]

RIN 2137-AE64

Pipeline Safety: Control Room Management/Human Factors

AGENCY: Pipeline and Hazardous Materials Safety Administration, DOT.

ACTION: Notice of proposed rulemaking; Extension of comment period.

SUMMARY: On September 17, 2010, PHMSA published a Control Room Management/Human Factors notice of proposed rulemaking (NPRM) proposing to expedite the program implementation deadlines to August 1, 2011, for most of the requirements, except for certain provisions regarding adequate information and alarm management, which would have a program implementation deadline of August 1, 2012. PHMSA has received a request to extend the comment period in order to have more time to evaluate the NPRM. PHMSA has concurred in part with this request and has extended the comment period from November 16, 2010, to December 3, 2010.

DATES: The closing date for filing comments is extended from November 16, 2010, until December 3, 2010.

ADDRESSES: Comments should reference Docket No. PHMSA-2007-27954 and may be submitted in the following ways:

• E-Gov Web site: http://www.regulations.gov. This Web site allows the public to enter comments on any Federal Register notice issued by any agency. Follow the instructions for submitting comments.

• Fax: 1-202-493-2251.

• Mail: DOT Docket Management System: U.S. DOT, Docket Operations, M-30, West Building Ground Floor, Room W12-140, 1200 New Jersey Avenue, SE., Washington, DC 20590-0001.

• Hand Delivery: DOT Docket Management System; West Building Ground Floor, Room W12-140, 1200 New Jersey Avenue, SE., Washington, DC 20590-0001 between 9 a.m. and 5 p.m., Monday through Friday, except Federal holidays.

Instructions: You should identify the Docket No. PHMSA-2007-27954 at the beginning of your comments. If you submit your comments by mail, submit two copies. To receive confirmation that PHMSA received your comments, include a self-addressed stamped postcard. Internet users may submit comments at http://www.regulations.gov.

Note: Comments are posted without changes or edits to http://www.regulations.gov, including any personal information provided. There is a privacy statement published on http://www.regulations.gov.

FOR FURTHER INFORMATION CONTACT: For further information contact Byron Coy at 609-989-2180 or by e-mail at Byron.Coy@dot.gov.

SUPPLEMENTARY INFORMATION: On September 17, 2010 (75 FR 56972), PHMSA published a NPRM proposing to expedite the program implementation deadlines of the Control Room Management/Human Factors rule at 49 CFR 192.631 and 195.446. The NPRM proposes to expedite the program implementation deadline from February 1, 2013, to August 1, 2011, for most of the requirements, except for certain provisions regarding adequate information and alarm management, which would have a program implementation deadline of August 1, 2012.

On November 4, 2010, the Interstate Natural Gas Association of America (INGAA) requested PHMSA to extend the NPRM comment period deadline from November 16, 2010, to December 20, 2010, to give INGAA's members the opportunity to ask questions about the rule and to engage in open discussions with the agency at PHMSA's Control Room Management Implementation workshop to be held on November 17, 2010, in Houston, Texas (75 FR 67450, November 2, 2010) prior to submitting comments. PHMSA planned this workshop to review several technical elements of the new regulations and to provide opportunities for attendees to ask questions about the rule and to engage in open discussions with PHMSA and each other.

PHMSA has concurred in part with INGAA's request and has extended the comment period from November 16, 2010, to December 3, 2010. This extension will provide sufficient time for commenters to submit comments after the workshop.

Issued in Washington, DC, on November 8, 2010.
Jeffrey D. Wiese,
Associate Administrator for Pipeline Safety.

[FR Doc. 2010-28714 Filed 11-15-10; 8:45 am]

BILLING CODE 4910-60-P